NUCLEAR REGULATORY COMMISSION

Sunshine Act Meeting

AGENCY HOLDING THE MEETING: Nuclear Regulatory Commission

DATE: Weeks of October 23, 30, November 6, 13, 20, and 27, 2000.

PLACE: Commissioners' Conference Room, 11555 Rockville Pike, Rockville, Maryland.

STATUS: Public and Closed.

MATTERS TO BE CONSIDERED:

Week of October 23

Monday, October 23

3:00

Affirmation Session (Public Meeting)

a: Final Rules—10 CFR Part 35, “Medical Use of Byproduct Material” and 10 CFR Part 20, “Standards for Protection Against Radiation”

Week of October 30—Tentative

There are no meetings scheduled for the Week of October 30.

Week of November 6—Tentative

There are no meetings scheduled for the Week of November 6.

Week of November 13—Tentative

Friday, November 17

9:25 a.m.

Affirmation Session (Public Meeting) (If needed)

9:30 a.m.

Briefing on Risk-Informed Regulation Implementation Plan (Public Meeting) (Contact: Tom King, 301-415-5790)

This meeting will be webcast live at the Web address— www.nrc.gov/live.html.

Week of November 20—Tentative

There are no meetings scheduled for the Week of November 20

Week of November 27—Tentative

There are no meetings scheduled for the Week of November 27.

*The schedule for commission meetings is subject to change on short notice. To verify the status of meetings call (recording)—(301) 415-1292.

CONTACT PERSON FOR MORE INFORMATION: Bill Hill (301) 415-1661.

The NRC Commission Meeting Schedule can be found on the Internet at: http://www.nrc.gov/SECY/smj/schedule.htm.

This notice is distributed by mail to several hundred subscribers; if you no longer wish to receive it, or would like to be added to it, please contact the Office of the Secretary, Attn: Operations Branch, Washington, DC 20555 (301-415-1661). In addition, distribution of this meeting notice over the Internet system is available. If you are interested in receiving this Commission meeting schedule electronically, please send an electronic message to wmh@nrc.gov or dkw@nrc.gov.

Dated: October 20, 2000.
William M. Hill, Jr.,
SECY Tracking Officer, Office of the Secretary.

[FR Doc. 00-27414 Filed 10-20-00; 2:09 pm]

BILLING CODE 7590-01-M